DEPARTMENT OF ENERGY

Western Area Power Administration

Custom Products and Transmission Arrangements, Central Valley Project

AGENCY: Western Area Power Administration, DOE.

ACTION: Notice of date extensions for customer action.

SUMMARY: The Western Area Power Administration (Western), a Federal power marketing administration of the Department of Energy (DOE), published Notice of the final 2004 Power Marketing Plan (Marketing Plan) in the Federal Register for the Sierra Nevada Customer Service Region (SNR). This notice extends the dates by which customers are required to act under the Marketing Plan and associated contracts.

DATES: Western is extending until August 13, 2004, the deadline by which customers must execute a Custom Product Contract to receive Full Load, Variable Resource, and/or Scheduling Coordinator Services from Western beginning January 1, 2005. The date by which all customers are required to notify Western of their transmission arrangements to deliver the Base Resource is also extended to August 13, 2004.

FOR FURTHER INFORMATION CONTACT: Mr. Thomas R. Boyko, Power Marketing Manager, Sierra Nevada Region, Western Area Power Administration, 114 Parkshore Drive, Folsom, CA 95630-4710, telephone (916) 353-4421, e-mail boyko@wapa.gov.

SUPPLEMENTARY INFORMATION:

Authorities

The Marketing Plan for marketing power by SNR after 2004, published in the Federal Register (64 FR 34417) on June 25, 1999, including the subsequent Final Resource Pool Allocations, published in the Federal Register (65 FR 45976) on July 26, 2000, and all other related notices, were established pursuant to the Department of Energy Organization Act (42 U.S.C. 7101-7352); the Reclamation Act of 1902 (ch. 1093, 32 Stat. 388), as amended and supplemented by subsequent laws, particularly section 9(c) of the Reclamation Project Act of 1939 (43 U.S.C. 485h(c)); and other acts that specifically apply to the projects involved.

Background

The Marketing Plan describes how SNR will market its power resources from the Central Valley Project, Washoe Project, and other sources beginning January 1, 2005, through December 31, 2024. The 2005 Resource Pool was established for new power allocations, and those allocations were made to qualified entities. All existing customers and new allottees have executed a Base Resource Contract with Western.

The Marketing Plan provides for making a Custom Product available to interested customers. A Custom Product is service not provided under the Base Resource Contract that a customer needs to meet its load, including firming or supplemental power, portfolio management, and/or scheduling coordinator services. The Marketing Plan required customers to commit to purchase a Custom Product by December 31, 2002. By notice in the Federal Register (67 FR 60654), dated September 26, 2002, the deadline was extended to June 30, 2004, to provide customers with more time to determine their need for a Custom Product in California's changing electric market.

SNR delayed its formal process to establish the rates to become effective January 1, 2005, until it completed the Operational Alternatives Administrative Procedure Act process. Western published a Final Decision on the Post-2004 Operational Alternative in the Federal Register (69 FR 8191) on February 23, 2004. Western then developed proposed rates consistent with that Final Decision. The Notice of Proposed Rates was published in the Federal Register (69 FR 26370) on May 12, 2004. Once established, these rates will apply to the services offered under the Marketing Plan. Therefore, Western is now extending the deadline to execute a Custom Product Contract to August 13, 2004. This extension is expected to provide ample time for customers to review the contracts and the proposed rates for the services offered under those contracts prior to the deadline to execute a contract.

The Base Resource Contract provides, among other things, that the customer make its own transmission arrangements to take delivery of the Base Resource, and must inform Western of such arrangements by July 1, 2004. Because Western is extending the deadline by which a customer must commit to purchase a Custom Product, Western has also decided to extend the notification date following the Transmission Arrangements Section of the Base Resource Contract to August 13, 2004.

Regulatory Procedure Requirements

Regulatory Flexibility Analysis

The Regulatory Flexibility Act of 1980 (5 U.S.C. 601, et seq.) requires Federal agencies to perform a regulatory flexibility analysis if a final rule is likely to have a significant economic impact on a substantial number of small entities and there is a legal requirement to issue a general notice of proposed rulemaking. Western has determined that this action does not require a regulatory flexibility analysis since it is a rulemaking of particular applicability involving rates or services applicable to public property.

Environmental Compliance

In compliance with the National Environmental Policy Act of 1969 (NEPA) (42 U.S.C. 4321, et seq.); Council on Environmental Quality Regulations (40 CFR 1500-1508); and DOE NEPA Regulations (10 CFR 1021), Western has determined this action is categorically excluded from preparing an environmental assessment or an environmental impact statement.

Determination Under Executive Order 12866

Western has an exemption from centralized regulatory review under Executive Order 12866; so this notice requires no clearance by the Office of Management and Budget.

Small Business Regulatory Enforcement Fairness Act

Western has determined this rule is exempt from congressional notification requirements under 5 U.S.C. 801 because the action is a rulemaking of particular applicability relating to rates or services and involves matters of procedure.

Dated: May 26, 2004.
Michael S. Hacskaylo,
Administrator.

[FR Doc. 04-13026 Filed 6-8-04; 8:45 am]

BILLING CODE 6450-01-P